SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that are included in this notice are for approvals of a new information collection.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: (SSA), Social Security Administration, DCFAM, Attn: Reports Clearance Officer, 1333 Annex Building, 6401 Security Blvd., Baltimore, MD 21235, Fax: 410-965-6400.

The information collection listed below is pending at SSA and will be submitted to OMB within 60 days from the date of this notice. Therefore, your comments should be submitted to SSA within 60 days from the date of this publication. You can obtain copies of the collection instruments by calling the SSA Reports Clearance Officer at 410-965-0454 or by writing to the address listed above.

Accelerated Benefits Demonstration Project—0960-NEW

The Accelerated Benefits Demonstration Project is a multi-phase study designed to assess whether providing new SSI disability recipients with certain benefits will stabilize or improve their health and help them return to work early. In this long-term study, new SSI disability recipients (i.e., those who have just begun receiving benefits and who have at least 18 months remaining before they qualify for Medicare) will be divided into three groups: (1) A control group who will just receive their regular SSI benefits; (2) a treatment group who will receive immediate access to health care benefits; and (3) a treatment group who will receive health care benefits and additional care management, employment, and benefits services and support. The study, which will be conducted for SSA by research contractors and health care experts, will assess if the additional medical benefits and employment supports help new beneficiaries improve and return to work earlier and if there is a difference between the treatment groups. The respondents are beneficiaries who have just begun receiving SSI disability benefits and are not yet eligible for Medicare health benefits.

Type of Request: New information collection.

Part of study | Number of respondents | Frequency of response | Average burden per response (minutes) | Estimated annual burden (hours)
Focus Groups | 40 | 1 | 120 | 80
Pilot Survey | 500 | 1 | 30 | 250
Actual Survey/Assessment of Treatment Efficacy (“Baseline Survey”) | 2,000 | 1 | 30 | 1,000
Three-Month Follow-Up Survey (“Early Use Survey”) | 480 | 1 | 30 | 240
Total | 3,020 |  |  | 1,570

Dated: December 29, 2006.
Elizabeth A. Davidson,
Reports Clearance Officer, Social Security Administration.

[FR Doc. E6-22643 Filed 1-5-07; 8:45 am]

BILLING CODE 4191-02-P